DEPARTMENT OF HEALTH AND HUMAN SERVICES

Centers for Disease Control and Prevention

[60Day-05AK]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Seleda Perryman, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Intimate Partner Violence Survey—New—National Center for Injury Prevention and Control (NCIPC), Centers for Disease Control and Prevention (CDC).

Intimate partner violence (IPV) is considered by many to be a serious problem. CDC considers IPV to be a “substantial public health problem for Americans that has serious consequences and cost to individuals, families, communities and society.” The past twenty years have witnessed an extraordinary growth in research on the prevalence, incidence, causes and effects of IPV. Various disciplines have contributed to the development of research on the subject including psychology, epidemiology, criminology and public health.

Still, there is a lack of reliable information on the prevalence of IPV and on trends over time. Estimates vary widely regarding the magnitude of the problem. This variance is due in large part to the different methods that are used to measure IPV and the context in which questions are asked about IPV. Thus, CDC is engaged in work to improve the quality of data, and hence knowledge about IPV. Part of this process includes comparing various ways of introducing questions about IPV and comparing information obtained from both men and women when questions about IPV victimization and perpetration are asked in differing order.

The purpose of this project is to administer questions, via telephone interviews, that measure both victimization and perpetration for various forms of intimate partner violence (IPV) including stalking, sexual violence, physical violence, and emotional control. The questions will be administered to a random sample of 1500 men and 1500 women ages 18-50. The survey instrument has been developed specifically for this study.

The overall benefit of this project is to determine the optimal order for asking questions about IPV victimization and perpetration and to compare and select the most useful context for introducing IPV questions (i.e., health vs. crime vs. family conflict). Ultimately, this knowledge will assist the CDC in establishing an ongoing data collection system for monitoring IPV victimization and perpetration. CDC, National Center for Injury Prevention and Control (NCIPC) intends to contract with an agency to conduct the survey. The only cost to the respondents is the time involved to complete the survey.

Respondent | No. of respondents | No. of responses per respondent | Avg. burden number per responses (in hours) | Total burden hours
Female | 1500 | 1 | 45/60 | 1125
Male | 1500 | 1 | 45/60 | 1125
Total | 3,000 |  |  | 2250

Dated: November 24, 2004.
B. Kathy Skipper,
Acting Director, Management Analysis and Services Office, Centers for Disease Control and Prevention.

[FR Doc. 04-26488 Filed 11-30-04; 8:45 am]

BILLING CODE 4163-18-P